DEPARTMENT OF TRANSPORTATION

Federal Aviation Administration

14 CFR Part 71

[Docket No. FAA-2004-19851; Airspace Docket No. 04-AAL-13]

RIN 2120-AA66

Modification and Revocation of Federal Airways; AK

AGENCY: Federal Aviation Administration (FAA), DOT.

ACTION: Final rule; correction.

SUMMARY: This action corrects an error in the airspace description of a notice of a final rule that was published in the Federal Register on May 6, 2005 (70 FR 23934), Airspace Docket No. 04-AAL-13.

DATES: Effective Date: 0901 UTC, July 7, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On May 6, 2005, Airspace Docket No. 04-AAL-13, was published in the Federal Register (70 FR 23934), revising Jet Route 133 (J-133), AK. In that rule, the airspace description was incomplete. This action corrects that error.

Correction to Final Rule

Accordingly, pursuant to the authority delegated to me, the legal description for J-133, as published in the Federal Register on May 6, 2005 (70 FR 23934), on page 23934 and incorporated by reference in 14 CFR 71.1, is corrected as follows:

PART 71—[AMENDED]

§ 71.1 [Amended]

Paragraph 2004—Jet Airways

* * * * *

J-133 [Corrected]

J-133: From Sitka, AK NDB; via INT Sitka, AK NDB 308° and Orca Bay, AK, NDB 114°; Orca Bay, AK; Johnstone Point, AK; Anchorage, AK; to Galena AK.

* * * * *

Issued in Washington, DC, on June 10, 2005.
Edith V. Parish,
Acting Manager, Airspace and Rules.

[FR Doc. 05-12126 Filed 6-21-05; 8:45 am]

BILLING CODE 4910-13-P